DEPARTMENT OF COMMERCE

International Trade Administration

[A-570-924]

Polyethylene Terephthalate Film, Sheet, and Strip From the People's Republic of China: Rescission of Antidumping Duty Administrative Review; 2015-2016

AGENCY: Enforcement and Compliance, International Trade Administration, Department of Commerce.

SUMMARY: The Department of Commerce is rescinding the administrative review of the antidumping duty order on polyethylene terephthalate film, sheet, and strip from the People's Republic of China for the period November 1, 2015, through October 31, 2016.

DATES: Effective May 4, 2017.

FOR FURTHER INFORMATION CONTACT: Eli Lovely, Office IV, Enforcement & Compliance, International Trade Administration, Department of Commerce, 1401 Constitution Avenue NW., Washington, DC 20230; telephone: (202) 482-1593.

SUPPLEMENTARY INFORMATION:

Background

On January 13, 2017, based on a timely request for review by Mitsubishi Polyester Film, Inc. and SKC, Inc. (collectively, the petitioners), the Department of Commerce (Commerce) published in the Federal Register a notice of initiation of an administrative review of the antidumping duty order on polyethylene terephthalate film, sheet, and strip (PET film) from the People's Republic of China (PRC) with respect to four companies for the period of review (POR) November 1, 2015, through October 31, 2016.¹ On February 16, 2017, pursuant to 19 CFR 351.213(d)(1), the petitioners timely withdrew their request for an administrative review for all of the companies for which Commerce initiated a review.²

¹ See Initiation of Antidumping and Countervailing Duty Administrative Reviews, 82 FR 4294 (January 13, 2017) (Initiation Notice).

² See Letter from Petitioners to the Secretary of Commerce “Polyethylene Terephthalate Film, Sheet, and Strip from the People's Republic of China: Withdrawal of Request for Antidumping Duty Administrative Review,” dated February 16, 2017.

Rescission of Review

Pursuant to 19 CFR 351.213(d)(1), Commerce will rescind an administrative review, in whole or in part, if the party that requested the review withdraws its request within 90 days of the publication of the notice of initiation of the requested review. In this case, the petitioners timely withdrew their review request by the 90-day deadline, and no other party requested an administrative review of the antidumping duty order. Therefore, in response to the timely withdrawal of the request for review, and in accordance with 19 CFR 351.213(d)(1), we are rescinding the administrative review of the antidumping duty order on PET film from the PRC for the period November 1, 2015, through October 31, 2016, in its entirety.

Assessment

Commerce will instruct U.S. Customs and Border Protection (CBP) to assess antidumping duties on all appropriate entries. Because this administrative review is being rescinded in its entirety, the entries to which this administrative review pertain shall be assessed antidumping duties that are equal to the cash deposits of estimated antidumping duties required at the time of entry, or withdrawal from warehouse, for consumption, in accordance with 19 CFR 351.212(c)(1)(i). Commerce intends to issue appropriate assessment instructions to CBP within 15 days after the publication of this notice.

Notification to Importers

This notice serves as a final reminder to importers of their responsibility under 19 CFR 351.402(f)(2) to file a certificate regarding the reimbursement of antidumping duties prior to liquidation of the relevant entries during this review period. Failure to comply with this requirement could result in the Commerce's presumption that reimbursement of the antidumping duties occurred and the subsequent assessment of doubled antidumping duties.

Administrative Protective Orders

This notice also serves as a final reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: April 28, 2017.
Gary Taverman,
Associate Deputy Assistant Secretary for Antidumping and Countervailing Duty Operations.

[FR Doc. 2017-08992 Filed 5-3-17; 8:45 am]

BILLING CODE 3510-DS-P